DEPARTMENT OF HEALTH AND HUMAN SERVICES

Administration for Children and Families

Submission for OMB Review; Comment Request

Title: Descriptive Study of County versus State Administered Temporary Assistance for Needy Families (TANF) Programs.

OMB No.: New Collection.

Description: The Administration for Children and Families (ACF) is proposing an information collection activity as part of the Descriptive Study of County and State Administered TANF Programs. The proposed information collection consists of semi-structured interviews with key County and State staff on questions of county TANF administration, policies, service delivery, and program context. Through this information collection, ACE seeks to gain an in-depth, systematic understanding of the differences in program implementation, operations, outputs and outcomes between state and county administered TANF programs, and identify special technical assistance needs of state supervised, county administered programs.

Respondents: Semi-structured interviews will be held with state and county TANF administrators and staff.

Annual Burden Estimates
Instrument | Annual Number of respondents | Number of responses per respondent | Average burden hours per response | Annual burden hours
State TANF administrators discussion guide | 6 | 1 | 1 | 6
State human service department director discussion guide | 6 | 1 | 1 | 6
County TANF administrators discussion guide | 12 | 1 | 1.5 | 18
County executives discussion guide | 12 | 1 | 1 | 12
County TANF directors' associations discussion guide | 6 | 1 | 1.5 | 9
Telephone interview protocol for state TANF directors | 30 | 1 | 0.5 | 15

Estimated Total Annual Burden Hours: 66.

Additional Information: Copies of the proposed collection may be obtained by writing to the Administration for Children and Families, Office of Planning, Research and Evaluation, 370 L'Enfant Promenade, SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration, for Children and Families.

Steven M. Hanmer,
OPRE Reports Clearance Officer.

[FR Doc. 2013-09097 Filed 4-17-13; 8:45 am]

BILLING CODE 4184-09-M